DEPARTMENT OF HOUSING AND URBAN DEVELOPMENT

[Docket No. FR-7066-N-09]

60-Day Notice of Proposed Information Collection: CDBG-PRICE Competition Application Collection; OMB Control No.: 2506-New

AGENCY: Office for Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 11, 2023.

ADDRESSES: Interested persons are invited to submit comments regarding this proposal. Written comments and recommendations for the proposed information collection can be sent within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000; telephone 202-402-3400 (this is not a toll-free number) or email at PaperworkReductionActOffice@hud.gov for a copy of the proposed forms or other available information.

FOR FURTHER INFORMATION CONTACT: Jessie Handforth Kome, Director, Office of Block Grant Assistance, Office of Community Planning and Development, Department of Housing and Urban Development, 451 7th Street SW, Room 7282, Washington, DC 20410, telephone number 202-708-3587 x5539. Facsimile inquiries may be sent to Ms. Jessie Handforth Kome at 202-708-0033. Except for the “800” number, these telephone numbers are not toll-free. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

A. Overview of Information Collection

Title of Information Collection: CDBG-PRICE Competition Grant Program (Manufactured Housing Community Improvement Grant Program) Application Collection.

OMB Approval Number: 2506-new.

Type of Request: New Collection.

Form Number: N/A.

Description of the need for the information and proposed use: HUD is issuing this NOFO under the authority of the Consolidated Appropriations Act, 2023 (Pub. L. 117-328, enacted December 29, 2022) to collect applications for the preservation and revitalization of manufactured housing and eligible manufactured housing communities (including pre-1976 mobile homes).

Respondents: State, tribal and local governments; manufactured housing communities, cooperatives, non-profit entities, and Community Development Finance Institutions.

Estimated Number of Respondents: 100+.

Estimated Number of Responses: 100.

Frequency of Response: 1.

Average Hours per Response: 20.

Total Estimated Burdens: 2,000.

Information collection | Number of respondents | Frequency of response | Responses per annum | Burden hour per response | Annual burden hours | Hourly cost per response | Annual cost
See above | 100 | 1 | 100 | 20 | 2,000 | $46.58 | $93,700

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35. Principal Deputy Assistant Secretary for Community Planning and Development, Marion McFadden, having reviewed and approved this document, is delegating the authority to electronically sign this document to submitter, Aaron Santa Anna, who is the Federal Register Liaison for HUD, for purposes of publication in the Federal Register.

Aaron Santa Anna,
Federal Register Liaison for the Department of Housing and Urban Development.

[FR Doc. 2023-14836 Filed 7-12-23; 8:45 am]

BILLING CODE 4210-67-P